DEPARTMENT OF HOMELAND SECURITY

Federal Emergency Management Agency

[Docket ID FEMA-2019-0002; Internal Agency Docket No. FEMA-B-1900]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Online location of letter of map revision | Date of modification | Community No.
Arkansas:
Benton | City of Rogers (18-06-2232P) | The Honorable Greg Hines, Mayor, City of Rogers, 301 West Chestnut Street, Rogers, AR 72756 | Community Development Department, 301 West Chestnut Street, Rogers, AR 72756 | https://msc.fema.gov/portal/advanceSearch | Apr. 8, 2019 | 050013
Lonoke | City of Cabot (18-06-0979P) | The Honorable Bill Cypert, Mayor, City of Cabot, 101 North 2nd Street, Cabot, AR 72023 | City Hall, 101 North 2nd Street, Cabot, AR 72023 | https://msc.fema.gov/portal/advanceSearch | Apr. 8, 2019 | 050309
Lonoke | Unincorporated areas of Lonoke County (18-06-0979P) | The Honorable Doug Erwin, Lonoke County Judge, 301 North Center Street, Lonoke, AR 72086 | Lonoke County Annex Building, 301 North Center Street, Lonoke, AR 72086 | https://msc.fema.gov/portal/advanceSearch | Apr. 8, 2019 | 050448
Colorado:
Adams and Jefferson | City of Westminster (18-08-0906P) | The Honorable Herb Atchison, Mayor, City of Westminster, 4800 West 92nd Avenue, Westminster, CO 80031 | City Hall, 4800 West 92nd Avenue, Westminster, CO 80031 | https://msc.fema.gov/portal/advanceSearch | Mar. 15, 2019 | 080008
Adams | Unincorporated areas of Adams County (18-08-0906P) | The Honorable Mary Hodge, Chair, Adams County Board of Commissioners, 4430 South Adams County Parkway, 5th Floor, Suite C5000A, Brighton, CO 80601 | Adams County Community and Economic Development Department, 4430 South Adams County Parkway, Brighton, CO 80601 | https://msc.fema.gov/portal/advanceSearch | Mar. 15, 2019 | 080001
Arapahoe | City of Aurora (18-08-0713P) | The Honorable Bob LeGare, Mayor, City of Aurora, 15151 East Alameda Parkway, Aurora, CO 80012 | Public Works Department, 15151 East Alameda Parkway, Aurora, CO 80012 | https://msc.fema.gov/portal/advanceSearch | Apr. 12, 2019 | 080002
Arapahoe | City of Greenwood Village (18-08-0275P) | The Honorable Ron Rakowsky, Mayor, City of Greenwood Village, 6060 South Quebec Street, Greenwood Village, CO 80111 | Public Works Department, 10001 East Costilla Avenue, Greenwood Village, CO 80112 | https://msc.fema.gov/portal/advanceSearch | Mar. 15, 2019 | 080195
Boulder | City of Boulder (18-08-0892P) | The Honorable Suzanne Jones, Mayor, City of Boulder, 1777 Broadway Street, Boulder, CO 80306 | Central Records Department, 1777 Broadway Street, Boulder, CO 80306 | https://msc.fema.gov/portal/advanceSearch | Mar. 26, 2019 | 080024
Broomfield | City and County of Broomfield (18-08-0246P) | The Honorable Randy Ahrens, Mayor, City and County of Broomfield, 1 DesCombes Drive, Broomfield, CO 80020 | City and County of Broomfield Engineering Department, 1 DesCombes Drive, Broomfield, CO 80020 | https://msc.fema.gov/portal/advanceSearch | Mar. 15, 2019 | 085073
Eagle | Unincorporated areas of Eagle County (18-08-0593P) | Mr. Jeff Shroll, Eagle County Manager, P.O. Box 850, Eagle, CO 81631 | Eagle County Engineering Department, 500 Broadway Street, Eagle, CO 81631 | https://msc.fema.gov/portal/advanceSearch | Mar. 15, 2019 | 080051
El Paso | Unincorporated areas of El Paso County (18-08-0702P) | The Honorable Darryl Glenn, President, El Paso County Board of Commissioners, 200 South Cascade Avenue, Suite 100, Colorado Springs, CO 80903 | Pikes Peak Regional Building Department, 2880 International Circle, Colorado Springs, CO 80910 | https://msc.fema.gov/portal/advanceSearch | Apr. 4, 2019 | 080059
Summit | Town of Silverthorne (18-08-0559P) | The Honorable Ann-Marie Sandquist, Mayor, Town of Silverthorne, P.O. Box 1309, Silverthorne, CO 80498 | Public Works Department, 264 Brian Avenue, Silverthorne, CO 80498 | https://msc.fema.gov/portal/advanceSearch | Mar. 25, 2019 | 080201
Connecticut: Fairfield | Town of Darien (18-01-1839P) | The Honorable Jayme J. Stevenson, First Selectwoman, Town of Darien Board of Selectmen, 2 Renshaw Road, Darien, CT 06820 | Planning and Zoning Department, 2 Renshaw Road, Darien, CT 06820 | https://msc.fema.gov/portal/advanceSearch | Feb. 25, 2019 | 090005
Florida:
Broward | City of Deerfield Beach (18-04-4897P) | The Honorable Bill Ganz, Mayor, City of Deerfield Beach, 150 Northeast 2nd Avenue, Deerfield Beach, FL 33441 | Environmental Services Department, 200 Goolsby Boulevard, Deerfield Beach, FL 33442 | https://msc.fema.gov/portal/advanceSearch | Mar. 19, 2019 | 125101
Collier | City of Marco Island (18-04-5452P) | The Honorable Jared Grifoni, Chairman, City of Marco Island Council, 50 Bald Eagle Drive, Marco Island, FL 34145 | Building Department, 50 Bald Eagle Drive, Marco Island, FL 34145 | https://msc.fema.gov/portal/advanceSearch | Mar. 15, 2019 | 120426
Collier | Unincorporated areas of Collier County (18-04-5751P) | The Honorable Andy Solis, Chairman, Collier County Board of Commissioners, 3299 Tamiami Trail East, Suite 303, Naples, FL 34112 | Collier County Growth Management Department, 2800 North Horseshoe Drive, Naples, FL 34104 | https://msc.fema.gov/portal/advanceSearch | Mar. 29, 2019 | 120067
Lee | City of Sanibel (18-04-6446P) | The Honorable Kevin Ruane, Mayor, City of Sanibel, 800 Dunlop Road, Sanibel, FL 33957 | Planning Department, 800 Dunlop Road, Sanibel, FL 33957 | https://msc.fema.gov/portal/advanceSearch | Mar. 21, 2019 | 120402
Lee | City of Sanibel (18-04-6717P) | The Honorable Kevin Ruane, Mayor, City of Sanibel, 800 Dunlop Road, Sanibel, FL 33957 | Planning and Code Enforcement Department, 800 Dunlop Road, Sanibel, FL 33957 | https://msc.fema.gov/portal/advanceSearch | Apr. 12, 2019 | 120402
Manatee | Unincorporated areas of Manatee County (18-04-1654P) | The Honorable Priscilla Trace, Chair, Manatee County Board of Commissioners, P.O. Box 1000, Bradenton, FL 34206 | Manatee County Building and Development Services Department, 1112 Manatee Avenue West, Bradenton, FL 34205 | https://msc.fema.gov/portal/advanceSearch | Apr. 8, 2019 | 120153
Monroe | Unincorporated areas of Monroe County (18-04-6657P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Mar. 18, 2019 | 125129
Monroe | Unincorporated areas of Monroe County (18-04-6765P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Mar. 19, 2019 | 125129
Pinellas | City of Treasure Island (18-04-5348P) | The Honorable Lawrence Lunn, Mayor, City of Treasure Island, 120 108th Avenue, Treasure Island, FL 33707 | Community Improvement Department, 120 108th Avenue, Treasure Island, FL 33707 | https://msc.fema.gov/portal/advanceSearch | Mar. 22, 2019 | 125153
Georgia: Chatham | City of Savannah (18-04-7121P) | The Honorable Eddie DeLoach, Mayor, City of Savannah, 2 East Bay Street, Savannah, GA 31402 | Development Services Department, 5515 Abercorn Street, Savannah, GA 31405 | https://msc.fema.gov/portal/advanceSearch | Apr. 9, 2019 | 135163
Louisiana:
Ascension | City of Gonzales (18-06-0401P) | The Honorable Barney Arceneaux, Mayor, City of Gonzales, 120 South Irma Boulevard, Gonzales, LA 70737 | City Hall, 120 South Irma Boulevard, Gonzales, LA 70737 | https://msc.fema.gov/portal/advanceSearch | May. 15, 2019 | 220015
Ascension | Town of Sorrento (18-06-0401P) | The Honorable Michael Lambert, Mayor, Town of Sorrento, P.O. Box 65, Sorrento, LA 70778 | Town Hall, 8173 Main Street, Sorrento, LA 70778 | https://msc.fema.gov/portal/advanceSearch | May. 15, 2019 | 220016
Ascension | Unincorporated areas of Ascension Parish (18-06-0401P) | The Honorable Kenny Matassa, Ascension Parish President, 615 East Worthy Road, Gonzales, LA 70737 | Ascension Parish Government Complex, 615 East Worthy Road, Gonzales, LA 70737 | https://msc.fema.gov/portal/advanceSearch | May. 15, 2019 | 220013
Massachusetts: Plymouth | Town of East Bridgewater (18-01-1360P) | The Honorable David J. Sheedy, Chairman, Town of East Bridgewater Board of Selectmen, 175 Central Street, East Bridgewater, MA 02333 | Department of Emergency Management, 268 Bedford Street, East Bridgewater, MA 02333 | https://msc.fema.gov/portal/advanceSearch | Mar. 21, 2019 | 250264
Montana:
Gallatin | City of Bozeman (18-08-1068P) | Ms. Andrea Surratt, Manager, City of Bozeman, P.O. Box 1230, Bozeman, MT 59771 | Engineering Department, 20 East Olive Street, Bozeman, MT 59715 | https://msc.fema.gov/portal/advanceSearch | Mar. 18, 2019 | 300028
Gallatin | City of Bozeman (18-08-1069P) | Ms. Andrea Surratt, Manager, City of Bozeman, P.O. Box 1230, Bozeman, MT 59771 | Engineering Department, 20 East Olive Street, Bozeman, MT 59715 | https://msc.fema.gov/portal/advanceSearch | Mar. 14, 2019 | 300028
Gallatin | City of Bozeman (18-08-1070P) | Ms. Andrea Surratt, Manager, City of Bozeman, P.O. Box 1230, Bozeman, MT 59771 | Engineering Department, 20 East Olive Street, Bozeman, MT 59715 | https://msc.fema.gov/portal/advanceSearch | Mar. 18, 2019 | 300028
Gallatin | Unincorporated areas of Gallatin County (18-08-1068P) | The Honorable R. Stephen White, Chairman, Gallatin County Board of Commissioners, 311 West Main Street, Room 306, Bozeman, MT 59715 | Gallatin County Planning Department, 311 West Main Street, Room 108, Bozeman, MT 59715 | https://msc.fema.gov/portal/advanceSearch | Mar. 18, 2019 | 300027
North Carolina:
Avery | Unincorporated areas of Avery County (18-04-5170P) | The Honorable Martha J. Hicks, Chair, Avery County Board of Commissioners, P.O. Box 640, Newland, NC 28657 | Avery County Inspections and Planning Department, 200 Montezuma Street, Newland, NC 28657 | https://msc.fema.gov/portal/advanceSearch | Apr. 11, 2019 | 370010
Durham | City of Durham (18-04-5360P) | The Honorable Steve Schewel, Mayor, City of Durham, 101 City Hall Plaza, Durham, NC 27701 | Development Services Department, 101 City Hall Plaza, Durham, NC 27701 | https://msc.fema.gov/portal/advanceSearch | Apr. 10, 2019 | 370086
Henderson | City of Hendersonville (18-04-7062P) | The Honorable Barbara Volk, Mayor, City of Hendersonville, 145 5th Avenue East, Hendersonville, NC 28792 | Development Assistance Department, 100 North King Street, Hendersonville, NC 28792 | https://msc.fema.gov/portal/advanceSearch | Mar. 25, 2019 | 370128
Union | Unincorporated areas of Union County (17-04-7709P) | The Honorable Jerry Simpson, Chairman, Union County Board of Commissioners, 500 North Main Street, Room 921, Monroe, NC 28112 | Union County Growth Management, Planning Division, 500 North Main Street, Monroe, NC 28112 | https://msc.fema.gov/portal/advanceSearch | Mar. 21, 2019 | 370234
North Dakota: Stark | City of Dickinson (18-08-0453P) | The Honorable Scott Decker, Mayor, City of Dickinson, 99 2nd Street East, Dickinson, ND 58601 | City Hall, 99 2nd Street East, Dickinson, ND 58601 | https://msc.fema.gov/portal/advanceSearch | Mar. 13, 2019 | 380117
Oklahoma:
Tulsa | City of Jenks (18-06-0767P) | The Honorable Josh Wedman, Mayor, City of Jenks, P.O. Box 2007, Jenks, OK 74037 | Engineering Department, 211 North Elm Street, Jenks, OK 74037 | https://msc.fema.gov/portal/advanceSearch | Mar. 25, 2019 | 400209
Woodward | City of Woodward (18-06-1551P) | The Honorable John Meinders, Mayor, City of Woodward, 722 Main Street, Woodward, OK 73801 | Department of Community Development, 722 Main Street, Woodward, OK 73801 | https://msc.fema.gov/portal/advanceSearch | Apr. 15, 2019 | 400209
Pennsylvania:
Allegheny | City of Pittsburgh (18-03-0982P) | The Honorable William Peduto, Mayor, City of Pittsburgh, 414 Grant Street, 5th Floor, Pittsburgh, PA 15219 | Planning Department, 200 Ross Street, Suite 309, Pittsburgh, PA 15219 | https://msc.fema.gov/portal/advanceSearch | Mar. 14, 2019 | 420063
Chester | Township of Sadsbury (18-03-1405P) | The Honorable Dave Reynolds, Chairman, Township of Sadsbury Board of Supervisors, 2920 Lincoln Highway, Sadsburyville, PA 19369 | Township Hall, 2920 Lincoln Highway, Sadsburyville, PA 19369 | https://msc.fema.gov/portal/advanceSearch | Mar. 22, 2019 | 421488
Dauphin | Township of Lower Paxton (18-03-1580P) | The Honorable Lowman S. Henry, Chairman, Township of Lower Paxton Board of Supervisors, 425 Prince Street, Harrisburg, PA 17109 | Community Development Department, 425 Prince Street, Harrisburg, PA 17109 | https://msc.fema.gov/portal/advanceSearch | Mar. 13, 2019 | 420384
Potter | Borough of Galeton (18-03-2057P) | The Honorable Joseph Petrencsik, President, Borough of Galeton Council, 21 East Main Street, Galeton, PA 16922 | Building Code Department, 972 Boom Station Road, Lawrenceville, PA 16929 | https://msc.fema.gov/portal/advanceSearch | Mar. 25, 2019 | 420762
Potter | Township of Pike (18-03-2057P) | The Honorable Paul Pitchard, Chairman, Township of Pike Board of Supervisors, 68 Meeker Road, Galeton, PA 16922 | Township Hall, 76 Route 6 West, Galeton, PA 16922 | https://msc.fema.gov/portal/advanceSearch | Mar. 25, 2019 | 421983
Potter | Township of West Branch (18-03-2057P) | The Honorable Stephen J. Piaquadio, Chairman, Township of West Branch Board of Supervisors, 187 Gross Road, Galeton, PA 16922 | Township Hall, 533 Germania Road, Galeton, PA 16922 | https://msc.fema.gov/portal/advanceSearch | Mar. 25, 2019 | 421992
South Carolina: Charleston | Town of Sullivan's Island (18-04-6935P) | The Honorable Patrick O'Neil, Mayor, Town of Sullivan's Island, P.O. Box 427, Sullivan's Island, SC 29482 | Town Hall, 2056 Middle Street, Sullivan's Island, SC 29482 | https://msc.fema.gov/portal/advanceSearch | Apr. 8, 2019 | 455418
Texas:
Collin | City of Celina (18-06-3631P) | The Honorable Sean Terry, Mayor, City of Celina, 142 North Ohio Street, Celina, TX 75009 | City Hall, 142 North Ohio Street, Celina, TX 75009 | https://msc.fema.gov/portal/advanceSearch | Apr. 1, 2019 | 480133
Collin | Unincorporated areas of Collin County (18-06-1253P) | The Honorable Keith Self, Collin County Judge, 2300 Bloomdale Road, Suite 4192, McKinney, TX 75071 | Collin County Emergency Management Department, 4690 Community Avenue, Suite 200, McKinney, TX 75071 | https://msc.fema.gov/portal/advanceSearch | Apr. 8, 2019 | 480130
Collin | Unincorporated areas of Collin County (18-06-3631P) | The Honorable Keith Self, Collin County Judge, 2300 Bloomdale Road, Suite 4192, McKinney, TX 75071 | Collin County Emergency Management Department, 4690 Community Avenue, Suite 200, McKinney, TX 75071 | https://msc.fema.gov/portal/advanceSearch | Apr. 1, 2019 | 480130
Ellis | City of Waxahachie (18-06-0880P) | The Honorable Kevin Strength, Mayor, City of Waxahachie, P.O. Box 757, Waxahachie, TX 75168 | Engineering Department, 401 South Rogers Street, Waxahachie, TX 75165 | https://msc.fema.gov/portal/advanceSearch | Mar. 28, 2019 | 480211
Hays | City of Kyle (18-06-2155P) | The Honorable Travis Mitchell, Mayor, City of Kyle, 100 West Center Street, Kyle, TX 78640 | Building Department, 100 West Center Street, Kyle, TX 78640 | https://msc.fema.gov/portal/advanceSearch | Mar. 7, 2019 | 481108
Kendall | Unincorporated areas of Kendall County (18-06-2515P) | The Honorable Darrel L. Lux, Kendall County Judge, 201 East San Antonio Avenue, Suite 122, Boerne, TX 78006 | Kendall County Engineering Department, 201 East San Antonio Avenue, Suite 101, Boerne, TX 78006 | https://msc.fema.gov/portal/advanceSearch | Apr. 8, 2019 | 480417
Liberty | City of Dayton (18-06-1877P) | The Honorable Jeff Lambright, Mayor, City of Dayton, 117 Cook Street, Dayton, TX 77535 | City Hall, 117 Cook Street, Dayton, TX 77535 | https://msc.fema.gov/portal/advanceSearch | Mar. 22, 2019 | 480440
Liberty | Unincorporated areas of Liberty County (18-06-1877P) | The Honorable Jay Knight, Liberty County Judge, 1923 Sam Houston Street, Room 201, Liberty, TX 77575 | Liberty County Courthouse, 1923 Sam Houston Street, Liberty, TX 77575 | https://msc.fema.gov/portal/advanceSearch | Mar. 22, 2019 | 480438
Midland | City of Midland (18-06-1530P) | Mr. Courtney Sharp, Manager, City of Midland, 300 North Loraine Street, Midland, TX 79701 | City Hall, 300 North Loraine Street, Midland, TX 79701 | https://msc.fema.gov/portal/advanceSearch | Feb. 28, 2019 | 480477
Tarrant | City of Fort Worth (18-06-2376P) | The Honorable Betsy Price, Mayor, City of Fort Worth, 200 Texas Street, Fort Worth, TX 76102 | City Hall, 200 Texas Street, Fort Worth, TX 76102 | https://msc.fema.gov/portal/advanceSearch | Mar. 22, 2019 | 480596
Tarrant | City of Fort Worth (18-06-3483P) | The Honorable Betsy Price, Mayor, City of Fort Worth, 200 Texas Street, Fort Worth, TX 76102 | City Hall, 200 Texas Street, Fort Worth, TX 76102 | https://msc.fema.gov/portal/advanceSearch | Mar. 21, 2019 | 480596
Tarrant | City of Haslet (18-06-2110P) | The Honorable Bob Golden, Mayor, City of Haslet, 101 Main Street, Haslet, TX 76052 | City Hall, 101 Main Street, Haslet, TX 76052 | https://msc.fema.gov/portal/advanceSearch | Apr. 11, 2019 | 480600
Tarrant | Unincorporated areas of Tarrant County (18-06-2376P) | The Honorable B. Glen Whitley, Tarrant County Judge, 100 East Weatherford Street, Fort Worth, TX 76196 | Tarrant County Administration Building, 100 East Weatherford Street, Fort Worth, TX 76196 | https://msc.fema.gov/portal/advanceSearch | Mar. 22, 2019 | 480582
Webb | Unincorporated areas of Webb County (18-06-2395P) | The Honorable Tano E. Tijerina, Webb County Judge, 1000 Houston Street, 3rd Floor, Laredo, TX 78040 | Webb County Planning Department, 1110 Washington Street, Suite 302, Laredo, TX 78040 | https://msc.fema.gov/portal/advanceSearch | Feb. 12, 2019 | 481059
Wise | City of Bridgeport (18-06-2510P) | The Honorable Randy Singleton, Mayor, City of Bridgeport, 900 Thompson Street, Bridgeport, TX 76426 | Infrastructure Services Department, 901 Cates Street, Bridgeport, TX 76426 | https://msc.fema.gov/portal/advanceSearch | Apr. 8, 2019 | 480677
Wise | Unincorporated areas of Wise County (18-06-2510P) | The Honorable J.D. Clark, Wise County Judge, P.O. Box 393, Decatur, TX 76234 | Wise County Engineering Department, 2901 South FM 51, Building 200, Decatur, TX 76234 | https://msc.fema.gov/portal/advanceSearch | Apr. 8, 2019 | 481051
Utah: Davis | City of Kaysville (18-08-1167X) | The Honorable Katie Witt, Mayor, City of Kaysville, 23 East Center Street, Kaysville, UT 84037 | Public Works Department, 721 West Old Mill Lane, Kaysville, UT 84037 | https://msc.fema.gov/portal/advanceSearch | Apr. 5, 2019 | 490046
Virginia: Fauquier | Unincorporated areas of Fauquier County (18-03-1561P) | The Honorable Christopher T. Butler, Chairman, Fauquier County Board of Supervisors, 10 Hotel Street, Suite 208, Warrenton, VA 20186 | Fauquier County Planning Division, 10 Hotel Street, 3rd Floor, Warrenton, VA 20186 | https://msc.fema.gov/portal/advanceSearch | Mar. 14, 2019 | 510055
Wyoming: Natrona | City of Casper (18-08-0739P) | The Honorable Ray Pacheco, Mayor, City of Casper, 200 North David Street, Casper, WY 82601 | City Hall, 200 North David Street, Casper, WY 82601 | https://msc.fema.gov/portal/advanceSearch | Mar. 13, 2019 | 560037

[FR Doc. 2019-03024 Filed 2-21-19; 8:45 am]

BILLING CODE 9110-12-P